DEPARTMENT OF COMMERCE

International Trade Administration

[A-602-807, A-351-842, A-570-022, C-570-023, A-560-828, C-560-829, A-471-807]

Certain Uncoated Paper From Australia, Brazil, the People's Republic of China, Indonesia, and Portugal: Affirmative Final Determination of Circumvention of the Antidumping and Countervailing Duty Orders

AGENCY: Enforcement and Compliance, International Trade Administration, Department of Commerce.

DATES: Applicable September 1, 2017.

SUMMARY: The Department of Commerce (Department) determines that imports of uncoated paper with a GE brightness of 83 ±1% (83 Bright paper), otherwise meeting the description of in-scope merchandise, from Australia, Brazil, the People's Republic of China, Indonesia, and Portugal constitute merchandise “altered in form or appearance in minor respects” from in-scope merchandise are subject to the antidumping duty (AD) and countervailing duty (CVD) orders on certain uncoated paper (uncoated paper).

FOR FURTHER INFORMATION CONTACT: William Miller at (202) 482-3906, AD/CVD Operations, Enforcement and Compliance, U.S. Department of Commerce, 1401 Constitution Avenue NW., Washington, DC 20230.

SUPPLEMENTARY INFORMATION:

Background

On June 9, 2017, the Department published the Preliminary Determination of the anti-circumvention inquiry of 83 Bright paper from Australia, Brazil, the People's Republic of China, Indonesia, and Portugal.¹ A summary of the events that occurred since the Department published the Preliminary Determination, as well as a full discussion of the issues raised by parties for this final determination, may be found in the Issues and Decision Memorandum which is hereby adopted by this notice.²

¹ See Certain Uncoated Paper from Australia, Brazil, the People's Republic of China, Indonesia, and Portugal: Affirmative Preliminary Determination of Circumvention of the Antidumping and Countervailing Duty Orders; 82 FR 26778 (June 9, 2017).

² See Memorandum, “Issues and Decision Memorandum for the Final Affirmative Determination of Circumvention of the Antidumping and Countervailing Duty Orders on Certain Uncoated Paper from Australia, Brazil, the People's Republic of China, Indonesia, and Portugal” (Issues and Decision Memorandum), dated concurrently with this determination and hereby adopted by this notice.

Scope of the Orders

The merchandise covered by the Orders ³ is uncoated paper. Uncoated paper subject to the Orders is currently classifiable in the Harmonized Tariff Schedule of the United States (HTSUS) at subheadings 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. The HTSUS subheadings are provided for convenience and customs purposes; the written description of the scope of the Orders is dispositive.⁴

³ See Certain Uncoated Paper from Australia, Brazil, Indonesia, the People's Republic of China, and Portugal: Amended Final Affirmative Antidumping Determinations for Brazil and Indonesia and Antidumping Duty Orders; 81 FR 11174 (March 3, 2016) and Certain Uncoated Paper from Indonesia and the People's Republic of China: Amended Final Affirmative Countervailing Duty Determination and Countervailing Duty Order (Indonesia) and Countervailing Duty Order (People's Republic of China); 81 FR 11187, (March 3, 2016) (collectively, the Orders).

⁴ A full description of the scope of the Orders is contained in the Issues and Decision Memorandum.

Scope of the Anti-Circumvention Inquiry

The merchandise subject to this anti-circumvention inquiry consists of 83 Bright paper with a GE brightness of 83 ±1%, and otherwise meeting the description of the scope of the Orders. On August 1, 2016, the petitioners clarified that, consistent with 19 CFR 351.225(m), they intended for the Department to conduct a single anti-circumvention inquiry and issue a single ruling applicable to each of the Orders. Therefore, in accordance with 19 CFR 351.225(m), we find it appropriate to apply the results of this inquiry to each of the Orders.⁵

⁵ See Certain Uncoated Paper from Australia, Brazil, Indonesia, the People's Republic of China, and Portugal: Initiation of Anti-Circumvention Inquiry, 81 FR 78117 (November 7, 2016).

Methodology

The Department conducted this anti-circumvention determination in accordance with section 781(c) of the Tariff Act of 1930, as amended (the Act), and 19 CFR 351.225(i). For a full description of the methodology underlying our conclusions, see the Issues and Decision Memorandum. A list of the topics discussed is attached to this notice in the Appendix.

The Issues and Decision Memorandum is on file electronically via Enforcement and Compliance's Antidumping and Countervailing Duty Centralized Electronic Service System (ACCESS). ACCESS is available to registered user at https://access.trade.gov and is available to all parties in the Central Records Unit, Room B-8024 of the main Department of Commerce building. In addition, a complete public version of the Issues and Decision Memorandum can be accessed directly at http://enforcement.trade.gov/frn/index.html. The signed and electronic versions of the Issues and Decision Memorandum are identical in content.

Final Affirmative Determination of Circumvention

As detailed in the Issues and Decision Memorandum, we determine, pursuant to section 781(c) of the Act and 19 CFR 351.225(i), that imports of 83 Bright paper, otherwise meeting the description of in-scope merchandise, constitute merchandise “altered in form or appearance in minor respects” from in-scope merchandise and are subject to the Orders.

Suspension of Liquidation

In accordance with 19 CFR 351.225(l)(2), we are directing U.S. Customs and Border Protection (CBP) to continue to suspend liquidation of entries of 83 Bright paper entered, or withdrawn from warehouse, for consumption on or after November 7, 2016, the date of publication of the initiation of this inquiry, until appropriate liquidation instructions are issued. We will also instruct CBP to continue to require a cash deposit of estimated duties at the applicable rates for each unliquidated entry of the product entered, or withdrawn from warehouse, for consumption on or after November 7, 2016, in accordance with 19 CFR 351.225(l)(2).

Dated: August 28, 2017.
Gary Taverman,
Deputy Assistant Secretary, Antidumping and Countervailing Duty Operations, performing the non-exclusive functions and duties of the Assistant Secretary for Enforcement and Compliance.

Appendix

List of Topics Discussed in the Issues and Decision Memorandum

I. Summary

II. Background

III. Scope of the Orders

IV. Merchandise Subject to the Anti-Circumvention Inquiry

V. Discussion of the Issues

A. Authority to Initiate This Anti-Circumvention Inquiry

B. Existence of 83 Bright Paper Prior to the Filing of the Petition

C. Physical Characteristics

D. Expectations of the Ultimate Users

E. Uses of the Merchandise

F. Channels of Marketing

G. Cost of Modification

H. Other Case-Specific Criteria

VI. Recommendation

[FR Doc. 2017-18589 Filed 8-31-17; 8:45 am]

BILLING CODE 3510-DS-P